DEPARTMENT OF THE INTERIOR

Bureau of Land Management

[AZA 28900]

Public Land Order No. 7251; Withdrawal of National Forest System Lands for State Highway 87 Roadside Zone; Arizona; Correction

Correction

In notice document 97-8627 on page 16179 in the issue of Friday, April 4, 1997, make the following correction:

On page 16179, in the first column, in the 24th line from the top, “Sec. 9, SE¼SW¼ and SW¼SE¼;” should read “Sec. 9, W½”SE¼SW¼SE¼SE¼SW¼, and lot 6;”

Dated: December 19, 2000.
Elson F. Alvarez,
Acting Deputy State Director, Resources Division.

[FR Doc. 01-290 Filed 1-4-01; 8:45 am]

BILLING CODE 3410-11-M